DEPARTMENT OF DEFENSE

Office of Secretary

[Docket ID: DoD-2008-OS-0082]

Privacy Act of 1974; System of Records

AGENCY: National Security Agency/Central Security Service, DoD.

ACTION: Notice to Amend System of Records.

SUMMARY: The National Security Agency/Central Security Service is proposing to amend an exempt system of records in its existing inventory of record systems subject to the Privacy Act of 1974 (5 U.S.C. 552a), as amended.

DATES: This proposed action would be effective without further notice on August 25, 2008 unless comments are received which result in a contrary determination.

ADDRESSES: Send comments to the National Security Agency/Central Security Service, Office of Policy, 9800 Savage Road, Suite 6248, Ft. George G. Meade, MD 20755-6248.

FOR FURTHER INFORMATION CONTACT: Ms. Anne Hill at (301) 688-6527.

SUPPLEMENTARY INFORMATION: The National Security Agency's record system notices for records systems subject to the Privacy Act of 1974 (5 U.S.C. 552a), as amended, have been published in the Federal Register and are available from the address above.

The specific changes to the record system being amended are set forth below followed by the notice, as amended, published in its entirety. The proposed amendment is not within the purview of subsection (r) of the Privacy Act of 1974 (5 U.S.C. 552a), as amended, which requires the submission of a new or altered system report.

Dated: July 17, 2008.
Patricia L. Toppings,
OSD Federal Register Liaison Officer, Department of Defense.

GNSA 07

System name:

NSA/CSS Motor Vehicles and Carpools (February 22, 1993, 58 FR 10531).

Changes:

* * * * *

Categories of records in the system:

Delete entry and replace with “Records of individuals who have registered a vehicle to include parking permit information, decal data, and insurance information. Applications may contain such information as name, Social Security Number (SSN), employee identification number, home address, home phone number, Driver's license information, and vehicle identification number. File also contains motor vehicle violation reports, stolen vehicle reports, and other forms and correspondence related to parking privileges, transportation needs, parking enforcement procedures, vehicle abuse and other related matters.”

Authority for maintenance of the system:

Delete entry and replace with “40 U.S.C. 1315; National Security Agency Act of 1959, Pub. L. No. 86-36, § 11 (codified as amendment in 50 U.S.C. 402 note); 32 CFR parts 228 and 634; and E.O. 9397 (SSN).”

Purpose:

Delete entry and replace with “To track the issuance of parking permits and decals and to provide a record of individuals who have registered a vehicle. In addition, to manage and enforce parking lot regulations, to assist employees with respect to vehicle abuse and stolen vehicles, provide carpool assistance, assure availability of adequate transportation and parking facilities and other related matters.”

* * * * *

Storage:

Delete entry and replace with “Paper in file folders and electronic storage media.”

Safeguards:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection.”

* * * * *

System Manager:

Delete entry and replace with “Chief, Commuter & Motor Fleet Services, National Security Agency/Central Security Service, Ft. George G. Meade, MD 20755-6000.”

Notification Procedure:

Delete entry and replace with “Individuals seeking to determine whether information about themselves is contained in this system should address written inquiries to the National Security Agency/Central Security Service, Freedom of Information Act/Privacy Act Office, 9800 Savage Road, Ft. George G. Meade, MD 20755-6000.

Individuals should provide their full name, current address, telephone number and signature.”

Record Access Procedures:

Delete entry and replace with “Individuals seeking access to information about themselves contained in this system should address written inquiries to the National Security Agency/Central Security Service, Freedom of Information Act/Privacy Act Office, 9800 Savage Road, Ft. George G. Meade, MD 20755-6000.

Individuals should provide their full name, current address, telephone number and signature.”

Contesting Record Procedures:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 07

System name:

NSA/CSS Motor Vehicles and Carpools.

System location:

Primary location: National Security Agency/Central Security Service, Ft. George G. Meade, MD 20755-6000.

Decentralized segments: Each non-headquarters facility and field element as appropriate and required.

Categories of individuals covered by the system:

NSA/CSS civilian employees, military assignees, other governmental employees or personnel under contract granted extended temporary or permanent access to an NSA/CSS facility.

Categories of records in the system:

Records of individuals who have registered a vehicle to include parking permit information, decal data, and insurance information. Applications may contain such information as name, Social Security Number (SSN), employee identification number, home address, home phone number, driver's license information, and vehicle identification number. File also contains motor vehicle violation reports, stolen vehicle reports, and other forms and correspondence related to parking privileges, transportation needs, parking enforcement procedures, vehicle abuse and other related matters.

Authority for maintenance of the system:

40 U.S.C. 1315; National Security Agency Act of 1959, Pub. L. No. 86-36, § 11 (codified as amendment in 50 U.S.C. 402 note); 32 CFR parts 228 and 634; and E.O. 9397 (SSN).

Purpose(s):

To track the issuance of parking permits and decals and to provide a record of individuals who have registered a vehicle. In addition, to manage and enforce parking lot regulations, to assist employees with respect to vehicle abuse and stolen vehicles, provide carpool assistance, assure availability of adequate transportation and parking facilities and other related matters.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To commercial or private transportation entities where the individuals have indicated a desire to use or join a multiple-user transportation arrangement. Selected individual data limited to name, address and telephone number may be made available.

To contractor employees to make determinations as noted in the purposes above.

The ‘Blanket Routine Uses’ set forth at the beginning of the NSA/CSS' compilation of systems of records notices apply to this system.

Policies and practices for storing, retrieving, accessing, retaining, and disposing of records in the system:

Storage:

Buildings are secured by a series of guarded pedestrian gates and checkpoints. Access to facilities is limited to security-cleared personnel and escorted visitors only. Within the facilities themselves, access to paper and computer printouts are controlled by limited-access facilities and lockable containers. Access to electronic means is limited and controlled by computer password protection.

Retrievability:

By name, motor vehicle identifier, and Social Security Number (SSN).

Safeguards:

For paper, cards and computer listings—Secure limited access facilities, within those facilities secure limited access rooms and within those rooms lockable containers as appropriate. Access is limited to authorized users. For machine records stored on magnetic tape, disk or other computer storage media within the computer processing area—additional secure limited access facilities, specific processing requests accepted from authorized persons only, specific authority to access stored records and delivery granted to authorized persons only.

Retention and disposal:

Maintained for two years, then destroyed. Destruction by pulping, burning, shredding, or erasure of magnetic media.

System manager(s) and address:

Chief, Commuter & Motor Fleet Services, National Security Agency/Central Security Service, Ft. George G. Meade, MD 20755-6000.

Notification procedure:

Individuals seeking to determine whether information about themselves is contained in this system should address written inquiries to the National Security Agency/Central Security Service, Freedom of Information Act/Privacy Act Office, 9800 Savage Road, Ft. George G. Meade, MD 20755-6000.

Individuals should provide their full name, current address, telephone number, and signature.

Record access procedures:

Individuals seeking access to information about themselves contained in this system should address written inquiries to the National Security Agency/Central Security Service, Freedom of Information Act/Privacy Act Office, 9800 Savage Road, Ft. George G. Meade, MD 20755-6000.

Individuals should provide their full name, current address, telephone number, and signature.

Contesting record procedures:

The NSA/CSS rules for contesting contents and appealing initial determinations are published at 32 CFR part 322 or may be obtained by written request addressed to the Chief, Office of Policy, National Security Agency/Central Security Service, Ft. George G. Meade, MD 20755-6000.

Record source categories:

Data provided by individuals, authorities in charge of parking facilities, local civil and military law enforcement entities and other related sources as appropriate and required.

Exemptions claimed for the system:

Information specifically authorized to be classified under E.O. 12958 may be exempt pursuant to 5 U.S.C. 552a(k)(1).

An exemption rule for this record system has been promulgated according to the requirements of 5 U.S.C. 553(b)(1), (2), and (3), (c) and (e) and published in 32 CFR part 322. For additional information contact the system manager.

[FR Doc. E8-17020 Filed 7-24-08; 8:45 am]

BILLING CODE 5001-06-P